DEPARTMENT OF TRANSPORTATION

Federal Aviation Administration

14 CFR Part 25

[Policy Statement No. ANM-115-05-14]

Acceptable Methods of Compliance With § 25.562(c)(5) for Front Row Passenger Seats

AGENCY: Federal Aviation Administration (FAA), DOT.

ACTION: Notice of proposed policy; request for comments.

SUMMARY: The Federal Aviation Administration (FAA) announces the availability of proposed policy on Acceptable Methods of Compliance with Title 14 Code of Federal Regulations (CFR) 25.562(c)(5) for Front Row Passenger Seats.

DATES: Send your comments on or before May 26, 2005.

ADDRESSES: Address your comments to the individual identified under FOR FURTHER INFORMATION CONTACT.

FOR FURTHER INFORMATION CONTACT: John Piccola, Federal Aviation Administration, Transport Airplane Directorate, Transport Standards Staff, Standardization Branch, ANM-113, 1601 Lind Avenue, SW., Renton, WA 98055-4056; telephone (425) 227-1509; fax (425) 227-1320; e-mail: John.Piccola@faa.gov.

SUPPLEMENTARY INFORMATION:

Comments Invited

The proposed policy is available on the Internet at the following address: http://www.airweb.faa.gov/rgl. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. ANM-115-05-14.”

Use the following format when preparing your comments:

• Organize your comments issue-by-issue.

• For each issue, state what specific change you are requesting to the proposed policy.

• Include justification, reasons, or data for each change you are requesting.

We also welcome comments in support of the proposed policy

We will consider all communications received on or before the closing date for comments. We may change the proposed policy because of the comments received.

Background

The purpose of the proposed policy memorandum is to clarify FAA certification policy of the acceptable substantiation methods used to provide protection under § 25.562(a) when meeting the performance standards in § 25.562(c) for “front row” seats. Front row seats are those seats which are located directly aft of a partition, monument, or other commodity, including all passenger seats not considered “row-to-row.” The policy is not directed toward other seats. The FAA has determined that the proposed policy provides an acceptable means of protection for front row occupants.

Issued in Renton, Washington, on March 25, 2005.
Ali Bahrami,
Manager, Transport Airplane Directorate, Aircraft Certification Service.

[FR Doc. 05-8136 Filed 4-25-05; 8:45 am]

BILLING CODE 4910-13-M